DEPARTMENT OF STATE

[Public Notice:12437]

Specially Designated Global Terrorist Designation of Adam Khamirzaev

Acting under the authority of and in accordance with section 1(a)(ii)(B) of Executive Order 13224, as amended (“E.O. 13224” or “Order”), the Secretary of State has determined that the person known as Adam Khamirzaev (also known as Adam Abu Darrar al-Shishani; Adam Islamovych Oliferchik; Andrei Guzun) is a leader of ISIS, an entity whose property and interests in property are blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, the Secretary of State determines that no prior notice needs to be provided to any person subject to this determination who might have a constitutional presence in the United States, because to do so would render ineffectual the measures authorized in the Order.

This determination shall be published in the Federal Register.

Dated: June 14, 2024.
Elizabeth H. Richard,
Coordinator for Counterterrorism.

[FR Doc. 2024-14944 Filed 7-8-24; 8:45 am]

BILLING CODE 4710-AD-P